DEPARTMENT OF THE INTERIOR

Bureau of Land Management

[ID 111 1610 DP 049D DBG060003]

Notice of Availability of Draft Snake River Birds of Prey National Conservation Area Resource Management Plan and Environmental Impact Statement, Idaho

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Draft Resource Management Plan/Environmental Impact Statement (Draft RMP/EIS) for the Snake River Birds of Prey National Conservation Area (NCA).

DATES: To assure that they will be considered, BLM must receive written comments on the Draft RMP/EIS within 90 days following the date the Environmental Protection Agency publishes this Notice of Availability in the Federal Register. The BLM will announce future meetings or hearings and any other public involvement activities at least 15 days in advance through public notices, media news releases, and/or mailings.

ADDRESSES: The Draft RMP/EIS will be posted on the Internet at http://www.id.blm.gov/planning and will be mailed to those who have indicated that they want a hard copy or a compact disk.

You may submit comments by any of the following methods:

• E-mail: srbp@contentanalysisgroup.com.

• Fax: 801-397-2601.

• Mail: Snake River Birds of Prey NCA, C/O Content Analysis Group, P.O. Box 2000, Bountiful, UT 84011-2000.

FOR FURTHER INFORMATION CONTACT: John Sullivan, NCA Manager, Bureau of Land Management, Four Rivers Field Office, 3948 Development Ave., Boise, Idaho 83705, phone—208-384-3300.

SUPPLEMENTARY INFORMATION: The NCA encompasses approximately 484,000 acres of public land along 81 miles of the Snake River. The NCA was established on August 4, 1993 by Public Law 103-64 for the conservation, protection, and enhancement of raptor populations and habitats and the natural and environmental resources and values associated with the area.

Issues identified through public scoping to be addressed in the planning process include the following:

• Vegetation: Substantial losses of native shrub and perennial grass communities have resulted in smaller and less stable small mammal raptor prey populations, which have secondarily impacted raptor populations.

• Fuels Management: The landscape-scale change from perennial to annual plant communities has altered the natural fire regime, resulting in more frequent fires, and greater potential for damage to private improvements in the wildland urban interface.

• Recreation: The burgeoning human population and associated development in the surrounding area have increased recreation-related impacts on soils and vegetation, predominately through off-road vehicle use. In addition, unregulated recreational shooting has caused safety conflicts with military training activities.

• National Guard: Military activities need to be conducted in a way that reduces impacts to soils and vegetation, especially shrub communities.

Four alternative strategies are described and analyzed, as follows:

Alternative A: (No-Action) Serves as a baseline for comparison with the other three alternatives, and proposes no major changes in resource management.

Alternative B: Emphasizes a moderate level of raptor and raptor prey habitat restoration and rehabilitation, while accommodating recreation, military, and commodity uses that are compatible with the purposes of the NCA.

Alternative C: Places a heavy emphasis on restoration and rehabilitation of all non-shrub areas outside the National Guard's Orchard Training Area (OTA) to improve raptor and raptor prey habitat. Livestock grazing preference would be eliminated, and recreation and military training would be substantially restricted to support habitat restoration projects.

Alternative D: (Preferred Alternative) Places a heavy emphasis on restoration of all non-shrub areas outside the OTA to improve raptor and raptor prey habitat, with moderate restrictions on recreation, military, and commodity uses.

Decision Process: Depending on the number and types of comments on the Draft RMP/EIS, the Proposed RMP/Final EIS is expected to be published in late 2006. A Notice of Availability of the Proposed RMP/Final EIS will be published in the Federal Register and through local news media. A notice of an approved Record of Decision will be published in the Federal Register following resolution of any protests or appeals on the Proposed RMP/Final EIS. The official responsible for the decision is the BLM Idaho State Director.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. Copies of the Draft Snake River Birds of Prey National Conservation Area Resource Management Plan/EIS are available in the Boise District Office at the above address.

Dated: February 14, 2006.
John Sullivan,
National Conservation Area Manager.

[FR Doc. E6-8619 Filed 6-1-06; 8:45 am]

BILLING CODE 4310-GG-P